DEPARTMENT OF HEALTH AND HUMAN SERVICES

Administration for Community Living

Proposed priorities; National Institute on Disability, Independent Living, and Rehabilitation Research; Disability and Rehabilitation Research Projects Program

AGENCY: Administration for Community Living, HHS.

CFDA Number: 84.133A-5 and 84.133A-6.

ACTION: Notice of Proposed priorities.

SUMMARY: The Administrator of the Administration for Community Living proposes priorities for the Disability and Rehabilitation Research Projects (DRRPs) Program administered by the National Institute on Disability, Independent Living, and Rehabilitation Research (NIDILRR). Specifically, this notice proposes priorities for a Center on Knowledge Translation for Employment Research and Projects for Translating Disability and Rehabilitation Research into Practice. We take this action to focus research attention on areas of national need. We intend these priorities to contribute to improved outcomes for people with disabilities through improved uptake of research-based knowledge generated by NIDILRR-sponsored research.

DATES: We must receive your comments on or before April 13, 2015.

ADDRESSES: Submit your comments through the Federal eRulemaking Portal or via postal mail, or commercial delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to the site?”

• Postal Mail or Commercial Delivery: If you mail or deliver your comments about these proposed regulations, address them to Patricia Barrett, U.S. Department of Health and Human Services, 400 Maryland Avenue SW., Room 5142, Potomac Center Plaza (PCP), Washington, DC 20202-2700.

Privacy Note: The Department's policy is to make all comments received from members of the public available for public viewing in their entirety on the Federal eRulemaking Portal at www.regulations.gov. Therefore, commenters should be careful to include in their comments only information that they wish to make publicly available.

FOR FURTHER INFORMATION CONTACT: Patricia Barrett. Telephone: (202) 245-6211 or by email: patricia.barrett@ed.gov.

If you use a telecommunications device for the deaf (TDD) or a text telephone (TTY), call the Federal Relay Service (FRS), toll free, at 1-800-877-8339.

SUPPLEMENTARY INFORMATION: This notice of proposed priority is in concert with NIDRR's currently approved Long-Range Plan (Plan). The Plan, which was published in the Federal Register on April 4, 2013 (78 FR 20299), can be accessed on the Internet at the following site: www.ed.gov/about/offices/list/osers/nidrr/policy.html.

The Plan identifies a need for research and training regarding employment, community living and participation, and health and function of individuals with disabilities. To address this need, NIDILRR seeks to: (1) Improve the quality and utility of disability and rehabilitation research; (2) foster an exchange of research findings, expertise, and other information to advance knowledge and understanding of the needs of individuals with disabilities and their family members, including those from among traditionally underserved populations; (3) determine effective practices, programs, and policies to improve community living and participation, employment, and health and function outcomes for individuals with disabilities of all ages; (4) identify research gaps and areas for promising research investments; (5) identify and promote effective mechanisms for integrating research and practice; and (6) disseminate research findings to all major stakeholder groups, including individuals with disabilities and their family members in formats that are appropriate and meaningful to them.

This notice proposes two priorities that NIDILRR intends to use for one or more competitions in fiscal year (FY) 2015 and possibly later years. NIDILRR is under no obligation to make an award under these priorities. The decision to make an award will be based on the quality of applications received and available funding. NIDILRR may publish additional priorities, as needed.

Invitation to Comment: We invite you to submit comments regarding these proposed priorities. To ensure that your comments have maximum effect in developing the final priorities, we urge you to identify clearly the specific topic within each priority that each comment addresses.

We invite you to assist us in complying with the specific requirements of Executive Orders 12866 and 13563 and their overall requirement of reducing regulatory burden that might result from these proposed priorities. Please let us know of any further ways we could reduce potential costs or increase potential benefits while preserving the effective and efficient administration of the program.

During and after the comment period, you may inspect all public comments by following the instructions found under the “Are you new to the site?” portion of the Federal eRulemaking Portal at www.regulations.gov. Any comments sent to NIDILRR via postal mail or commercial delivery can be viewed in Room 5142, 550 12th Street SW., PCP, Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Disability and Rehabilitation Research Projects

The purpose of NIDILRR's DRRPs, which are funded through the Disability and Rehabilitation Research Projects and Centers Program, is to improve the effectiveness of services authorized under the Rehabilitation Act by developing methods, procedures, and rehabilitation technologies that advance a wide range of independent living and employment outcomes for individuals with disabilities, especially individuals with the most significant disabilities. DRRPs carry out one or more of the following types of activities, as specified and defined in 34 CFR 350.13 through 350.19: Research, training, demonstration, development, utilization, dissemination, and technical assistance.

An applicant for assistance under this program must demonstrate in its application how it will address, in whole or in part, the needs of individuals with disabilities from minority backgrounds (34 CFR 350.40(a)). The approaches an applicant may take to meet this requirement are found in 34 CFR 350.40(b). Additional information on the DRRP program can be found at: www.ed.gov/rschstat/research/pubs/res-program.html#DRRP.

Program Authority: 29 U.S.C. 762(g) and 764(a).

Applicable Program Regulations: 34 CFR part 350.

Proposed Priorities

This notice contains two proposed priorities.

Proposed Priority 1: Center on Knowledge Translation for Employment Research

Background

There continues to be a wide disparity in employment rates between individuals with and without disabilities. As of October 2014, the employment rate for individuals with disabilities was 17.7 percent while that of individuals without disabilities was 65.2 percent (U.S. Department of Labor, 2014). This disparity in employment rates is seen across all age groups and for both men and women.

Using the best available research findings to inform practice and policy can contribute to improvements in outcomes for individuals with disabilities (Dijkers, 2009). While there are research findings in several areas related to the employment of individuals with disabilities, the use of those findings in the disability employment field to improve employment practices, policies, systems, and outcomes is not optimal (Center on Knowledge Translation for Employment research [SEDL], 2011).

The National Institute on Disability, Independent Living, and Rehabilitation Research (NIDILRR) has adopted the conceptual framework of knowledge translation (KT) to help promote the effective use of research findings. Within the disability employment context, KT refers to a multidimensional, active process of ensuring that new knowledge and products gained via research and development reach practitioners, employers, policy makers, and individuals with disabilities and others; are understood by these audiences; and are used to improve the employment and participation outcomes of individuals with disabilities. KT is built upon continuing interactions and partnerships within and between different groups of knowledge creators and users. Using KT to facilitate partnerships between researchers and key stakeholders in the field of disability employment research is critical, given the limited experience that employers have with hiring, maintaining, and promoting individuals with disabilities. At the same time, potential employees with disabilities have a relative lack of experience in the paid labor force. KT strategies can be used to promote the use of research-based knowledge among employers, potential employees with disabilities, employment service providers, and other stakeholders as they seek to improve employment outcomes among individuals with disabilities.

The promise of KT for influencing employment practice and outcomes has yet to be fulfilled because there is still limited information available related to effective strategies for knowledge translation in the disability employment context (e.g., Becker et al., 2007; Graham et al., 2013; Hall et al., 2014). Thus, NIDILRR aims to sponsor research to identify or develop KT strategies that are designed to promote the use of disability employment research findings to improve employment outcomes of individuals with disabilities.

References

Becker, D.R., Baker, S.R., Carlson, L., Flint, L., Howell, R., Lindsay, S., Moore, M., Reeder, S., & Drake, R.E. (2007). Critical strategies for implementing supported employment. Journal of Vocational Rehabilitation, 27(1), 13-20.

Center on Knowledge Translation for Employment Research (2011). Promising and proven practices in employment. Retrieved from http://kter.org/products/Promising_Proven_Practices_0411.pdf.

Dijkers, M.P.J.M. for the NCDDR Task Force on Systematic Review and Guidelines. (2009). When the best is the enemy of the good: The nature of research evidence used in systematic reviews and guidelines. Austin, TX: SEDL.

Graham, C., Inge, K., Wehman, P., Murphy, K., Revell, W.G., & West, M. (2013). Moving employment research into practice: Knowledge and application of evidence-based practices by State vocational rehabilitation agency staff. Journal of Vocational Rehabilitation 39(1), 75-81.

Hall, A., Bose, J., Winsor, J., & Migliore, A. (2014). Knowledge translation in job development: Strategies for involving families. Journal of Applied Research in Intellectual Disabilities, 27(5), 489-492.

U.S. Department of Labor, Bureau of Labor Statistics (2014). Table A6. Employment status of the civilian population by sex, age, and disability status, not seasonally adjusted. Retrieved from http://www.bls.gov/news.release/empsit.t06.htm.

Proposed Priority 1

Center on Knowledge Translation for Employment Research

The Administrator of the Administration for Community Living proposes a priority for a Disability and Rehabilitation Research Project to serve as the Center on Knowledge Translation for Employment Research (Center). The purpose of the proposed Center on KT for Employment Research is to promote the use of employment research findings to improve practices and policies that support improved employment outcomes of individuals with disabilities. The center will achieve this purpose by (1) working with employment-focused NIDILRR grantees to identify research findings that can be used to improve employment outcomes for individuals with disabilities, (2) identifying areas in which stakeholders' needs for research-based knowledge are most pressing, and (3) investigating and promoting effective strategies to increase the appropriate use of the best available research-based knowledge in the field.

Under this priority, the Center must be designed to contribute to the following outcomes:

(a) Increased understanding of processes and practices that will lead to successful knowledge translation in the field of employment for individuals with disabilities;

(b) Increased adoption and use of relevant research findings funded by NIDILRR and other entities, to improve employment of individuals with disabilities; and

(c) Increased capacity of NIDILRR's employment-focused grantees to plan and engage in knowledge translation activities.

The Center must contribute to these outcomes by conducting rigorous research, development, technical assistance, dissemination, and utilization activities to increase successful knowledge translation of employment research to improve employment of individuals with disabilities. In planning and conducting all activities, the Center must partner with relevant stakeholders such as employment-focused researchers, individual with disabilities, consumer organizations, employers, State and Federal agencies, and others as appropriate.

Proposed Priority 2: Projects for Translating Disability and Rehabilitation Research into Practice.

Background

A critical part of the mission of the National Institute on Disability, Independent Living and Rehabilitation Research (NIDILRR) is promoting the effective use of new research-based knowledge to improve the outcomes of individuals with disabilities. NIDILRR has adopted the conceptual framework of knowledge translation to help guide its efforts to promote the effective use of research-based knowledge. Knowledge translation in the NIDILRR context refers to a multidimensional, active process of ensuring that new knowledge and products gained via research and development are relevant to the users' needs, reach intended users; are understood by these users; and are used to improve participation of individuals with disabilities in society.

NIDILRR has increasingly emphasized the importance of translating research-based findings and products from NIDILRR-funded projects into practice, policy, or other uses by placing knowledge translation requirements in all grant opportunity announcements, and by funding a number of dedicated knowledge translation centers to provide technical assistance to grantees in this endeavor. These efforts have successfully promoted the use of new research-based knowledge and products by facilitating the identification of research questions that are relevant to the knowledge needs of targeted users, incorporating user input into the planning and implementation of research and development projects, and by facilitating the dissemination of research-based findings and products in usable formats.

However, grantees often complete their research or development activities without sufficient time or funds to translate their research-based findings into usable products, or to promote the use and adoption of such findings by stakeholders. NIDILRR believes that a funding program that provides additional time and resources for these KT activities will help to further promote the use and adoption of research-based findings and products from NIDILRR-funded work which will, in turn, help to support its mission to improve the lives of individuals with disabilities.

Proposed Priority: Projects for Translating Disability and Rehabilitation Research into Practice.

The Administrator of the Administration for Community Living proposes a priority for Disability and Rehabilitation Research Projects (DRRP). These DRRP grants will serve as Projects for Translating Disability and Rehabilitation Research into Practice. The purpose of these projects is to support the translation of research findings or products of past or present NIDILRR-funded grants into use or adoption by their stakeholders. Under this priority, grantees must successfully move NIDILRR-sponsored research-based findings or products into actual use or adoption in real-life contexts. Grantees under this priority must also document and disseminate the knowledge translation methods that they used to facilitate the adoption or use of findings or products by stakeholders.

Each knowledge translation grant under this priority must be conducted in partnership with relevant stakeholders. These stakeholders must be actively engaged in the planning, implementation, and evaluation of all knowledge translation grant activities. Grantees under this priority must contribute to the following outcomes:

(1) Use or adoption of NIDILRR-sponsored findings or products by relevant stakeholders;

(2) Changes in policy, practice, or systems that are intended to improve the lives of individuals with disabilities as a result of the use or adoption of NIDILRR-sponsored findings or products; and

(3) Increased understanding of promising practices for knowledge translation in disability, independent living, and rehabilitation research.

Grantees under this priority must contribute to these outcomes by—

(a) Identifying research-based findings or products from a NIDILRR-funded grant or grants that are ready for use or adoption in real-world settings, as well as the context or setting in which they will be used or adopted;

(b) Identifying or developing, and then implementing a knowledge translation plan to facilitate the use or adoption of findings or products in (a) by key stakeholders; and

(c) Identifying measures to evaluate the success of the uses or adoptions achieved under (b).

Final Priorities

We will announce the final priorities in a notice in the Federal Register. We will determine the final priorities after considering responses to this notice and other information available to the Department. This notice does not preclude us from proposing additional priorities, requirements, definitions, or selection criteria, subject to meeting applicable rulemaking requirements.

Note: This notice does not solicit applications. In any year in which we choose to use these priorities, we invite applications through a notice in the Federal Register or in a Funding Opportunity Announcement posted at www.grants.gov.

Executive Orders 12866 and 13563

Regulatory Impact Analysis

Under Executive Order 12866, the Secretary must determine whether this regulatory action is “significant” and, therefore, subject to the requirements of the Executive Order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive Order.

This proposed regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities only upon a reasoned determination that its benefits would justify its costs. In choosing among alternative regulatory approaches, we selected those approaches that would maximize net benefits. Based on the analysis that follows, the Department believes that these proposed priorities are consistent with the principles in Executive Order 13563.

We also have determined that this regulatory action would not unduly interfere with State, local, and tribal governments in the exercise of their governmental functions.

In accordance with both Executive Orders, the Department has assessed the potential costs and benefits, both quantitative and qualitative, of this regulatory action. The potential costs are those resulting from statutory requirements and those we have determined as necessary for administering the Department's programs and activities.

The benefits of the Disability and Rehabilitation Research Projects and Centers Program have been well established over the years. Projects similar to ones envisioned by the proposed priorities have been completed successfully, and the proposed priorities would generate new knowledge through research. The new DRRPs would generate, disseminate, and promote the use of new information that would improve outcomes for individuals with disabilities.

Intergovernmental Review: This program is not subject to Executive Order 12372.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 3, 2015.
Kathy Greenlee,
Administrator.

[FR Doc. 2015-05333 Filed 3-12-15; 8:45 am]

BILLING CODE 4154-01-P